DEPARTMENT OF DEFENSE

Department of the Army, Corps of Engineers

33 CFR Part 328

ENVIRONMENTAL PROTECTION AGENCY

40 CFR Part 120

[FRL-6027.4-04-OW]

Notification of Regional Roundtable Discussions Regarding “Waters of the United States”

AGENCY: Department of the Army, Corps of Engineers, Department of Defense; and Environmental Protection Agency (EPA).

ACTION: Notice of events; request for nominations.

SUMMARY: On June 9, 2021, the U.S. Environmental Protection Agency (EPA) and the U.S. Department of the Army (hereafter, “the agencies”) announced their intent to revise the definition of “waters of the United States” under the Clean Water Act through two rulemakings—first, a foundational rule that will propose to restore longstanding protections, and a second rulemaking process that builds on that regulatory foundation. On July 30, 2021, the agencies announced stakeholder engagement opportunities, including the agencies' intent to host ten regionally focused roundtables. EPA and Army are announcing a process for stakeholders to submit nomination letters to the agencies to potentially be selected for one of these ten geographically focused roundtables. Each roundtable should include diverse perspectives and highlight the experience of individual participants with the definition of “waters of the United States.” The agencies intend to livestream each roundtable to make them available for public viewing.

DATES: Nomination letters for the roundtables must be received on or before 11:59 p.m. Eastern Daylight Time on November 3, 2021. EPA anticipates that roundtables will be held in December 2021 and potentially January 2022. Specific dates will be coordinated with selected nominees based on availability. Please refer to the SUPPLEMENTARY INFORMATION section for additional information.

FOR FURTHER INFORMATION CONTACT: Kate Balasa, Office of Water, Environmental Protection Agency, 1200 Pennsylvania Avenue NW, Washington, DC 20460; telephone number: (312) 886-6027; email address: WOTUS-outreach@epa.gov, or Stacey Jensen, Office of the Assistant Secretary of the Army for Civil Works, Department of the Army, 108 Army Pentagon, Washington, DC 20310-0104; telephone number: (703) 459-6026; email address: usarmy.pentagon.hqda-asa-cw.mbx.asa-cw-reporting@mail.mil.

SUPPLEMENTARY INFORMATION:

I. General Information

In the last six years, the agencies have implemented three different definitions of “waters of the United States”—the pre-2015 regulatory regime, the 2015 Clean Water Rule, and the 2020 Navigable Waters Protection Rule (NWPR). The agencies' experience implementing these previous definitions of “waters of the United States” (WOTUS) has highlighted the regional variability of water resources and the importance of close engagement with stakeholders to understand key implementation issues under varying definitions of WOTUS.

On June 9, 2021, EPA and the U.S. Department of the Army (hereafter, “the agencies”) announced their intent to revise the definition of WOTUS under the Clean Water Act through two rulemakings—first, a foundational rule that will propose to restore longstanding protections, and a second rulemaking process that builds on that regulatory foundation. On July 30, 2021, the agencies announced stakeholder engagement opportunities, including the agencies' intent to host ten regionally focused roundtables. EPA and Army are announcing a process for stakeholders to submit nomination letters to the agencies to potentially be selected for one of these ten geographically focused roundtables.

The intent for each regional roundtable is to engage individuals representing diverse perspectives in meaningful dialogue on the definition of WOTUS. The roundtables will provide opportunities to discuss geographic similarities and differences, particular water resources that are characteristic of or unique to each region, and site-specific feedback about implementation of WOTUS.

The goals of the regional roundtables are to obtain robust and diverse public input on WOTUS. The agencies are seeking input on a durable definition of WOTUS, not limited to the scope of the regulatory processes announced on June 9, 2021. EPA and Army are seeking to understand perspectives:

• Highlighting how different regions are affected by the various WOTUS definitions (i.e., the pre-2015 regulatory regime, the 2015 Clean Water Rule, and the 2020 Navigable Waters Protection Rule).

• Learning about stakeholder experiences, challenges, and opportunities under different regulatory regimes.

• Facilitating engagement across diverse perspectives to inform the development of a durable and workable definition of WOTUS.

The agencies are committed to learning from the past regulatory approaches—the pre-2015 regulations and guidance, the 2015 Clean Water Rule, and the 2020 Navigable Waters Protection Rule—while engaging with stakeholders to develop an enduring definition of WOTUS.

The roundtables will take place in December 2021 and potentially January 2022. These stakeholder engagements are complementary of previous and future opportunities for public input, including:

• A notice of public meeting dates and solicitation of written pre-proposal feedback from August 4, 2021 to September 3, 2021;

• Public meetings that were held on August 18, August 23, August 25, August 26, August 31, and September 2, 2021;

• State meetings and engagement with Tribes and Alaska Native Villages; and

• Future public comment periods on upcoming regulatory actions.

II. Public Participation

A. Submitting a Nomination To Be Selected for Stakeholder/Community Roundtable

The agencies intend to host ten virtual roundtables during which stakeholders can participate in a discussion on “waters of the United States” and provide their unique perspectives to EPA and the Army. These regionally focused roundtables will allow stakeholders with a range of perspectives to engage and discuss their experiences with definitions of WOTUS, including challenges and opportunities within their geographic areas. The roundtables will also provide an opportunity for the participants to discuss geographic similarities and differences, particular water resources that are characteristic of or unique to each region, and site-specific feedback about implementation.

For the purposes of these roundtable discussions, geographic regions are identified as follows:

• Northeast (ME, MA, RI, CT, NH, VT, NY, PA, NJ, DE, MD)

• Southeast (WV, VA, KY, TN, NC, SC, GA, AL, MS, AR, LA, FL)

• Midwest (OH, IN, MI, IL, MO, WI, MN, IA, KS, NE, SD, ND)

• West (WY, MT, ID, WA, OR, NV, CA, AK, HI)

• Southwest (TX, OK, NM, AZ, UT, CO)

The agencies are inviting stakeholders to organize interested parties and regional participants that comprise up to 15 representatives for these roundtables. Each nomination for a roundtable must include a proposed slate of participants representing perspectives of: Agriculture; conservation groups; developers; drinking water/wastewater management; environmental organizations; environmental justice communities; industry; and other key interests in that region.

The agencies request that organizers that would like to be considered for a roundtable submit their self-nomination letter via email to WOTUS-outreach@epa.gov no later than November 3, 2021. Nomination letters should include the following information:

• Organizer primary point of contact and contact information (name, title, affiliation, email, phone number);

• Name, affiliation, email, phone number, and address information of proposed participants for the roundtable;

• Confirmation that the number of stakeholders, including the organizer and participants, does not exceed 15 individuals;

• The region the roundtable is representing, with a paragraph description of the region;

• The perspectives that are represented in the roundtable;

• A brief description of key topics related to WOTUS implementation in the region. For consideration, the agencies have described topics in the August 4, 2021 Federal Register publication (86 FR 41911) that we believe are key to understanding regional variability.

After reviewing the nomination letters, EPA and Army will select ten of the self-nominated groups to participate in a regional roundtable discussion on WOTUS, hosted by the agencies. Please note that because of current CDC recommendations, as well as state and local orders for social distancing to limit the spread of COVID-19, EPA cannot hold in-person public meetings at this time. The agencies will host these roundtables virtually. The agencies anticipate coordinating with elected officials that represent the location of selected roundtables. The agencies also intend to livestream each roundtable to make them available for public viewing.

Jaime A. Pinkham,
Acting Assistant Secretary of the Army (Civil Works), Department of the Army.
Radhika Fox,
Assistant Administrator, Environmental Protection Agency.

[FR Doc. 2021-23039 Filed 10-22-21; 8:45 am]

BILLING CODE 6560-50-P